DEPARTMENT OF HEALTH AND HUMAN SERVICES

Centers for Disease Control and Prevention

Statement of Organization, Functions, and Delegations of Authority

Part C (Centers for Disease Control and Prevention) of the statement of Organization, Functions, and Delegations of Authority of the Department of Health and Human Services (45 FR 67772-76, dated October 14, 1980, and corrected at 45 FR 69296, October 20, 1980, as amended most recently at 70 FR 34772-34774, dated June 15, 2005) is amended to reflect the establishment of the Coordinating Center for Environmental Health and Injury Prevention at the Centers for Disease Control and Prevention.

Section C-B, Organization and Functions, is hereby amended as follows:

After the mission statement for the Centers for Disease Control and Prevention (C), insert the following:

Coordinating Center for Environmental Health and Injury Prevention (CT). The mission of the Coordinating Center for Environment Health and Injury Prevention (CCEHIP) is to plan, direct, and coordinate national and global public health research, programs, and laboratory sciences that improve health and eliminate illness, disability, and/or death caused by injuries or environmental exposures.

In carrying out this mission, the CCEHIP (1) promotes mission-related accomplishments across the National Center for Environmental Health (NCEH), Agency for Toxic Substances and Disease Registry (ATSDR) and the National Center for Injury Prevention and Control (NCIPC); (2) fosters excellence in public health science and programs across NCEH, ATSDR and NCIPC; (3) assures the establishment of NCEH, ATSDR and NCIPC priorities and goals and coordinates their alignment with CDC and DHHS priorities and goals; (4) assures that NCEH, ATSDR and NCIPC resources are aligned with their priorities and goals; (5) supports the accomplishment of NCEH, ATSDR and NCIPC goals and priorities; (6) identifies synergies across NCEH, ATSDR and NCIPC and CDC; (7) assures that NCEH, ATSSDR and NCIPC meet statutory and mandated requirements; (8) adheres to best business practices for management and administrative functions across NCEH, ATSDR and NCIPC; and, (9) serves as liaison with CDC Coordinating Centers, Offices, and the Office of the Director.

Office of the Director (CTA). (1) Provides leadership and guidance and evaluates the activities of the Coordinating Center for Environmental Health and Injury Prevention (CCEHIP); (2) develops overarching goals and objectives and provides leadership, policy formation, scientific oversight and guidance in program planning and development; (3) coordinates assistance provided by CCEHIP to other CDC components, other Federal, State, and local agencies, the private sector and other nations; (4) provides and coordinates resource management requirements for CCEHIP; (5) develops and provides guidance on workforce development activities within CCEHIP and coordinates the recruitment, assignment, technical supervision, and career development of staff, with emphasis on goals for equal employment opportunity and diversity where appropriate; and, (6) collaborates as appropriate with other Coordinating Centers, Centers, Offices, Institutes of CDC, and other PHS agencies, and other Federal agencies.

Dated: July 29, 2005.
William H. Gimson,
Chief Operating Officer, Centers for Disease Control and Prevention (CDC).

[FR Doc. 05-15797 Filed 8-9-05; 8:45 am]

BILLING CODE 4160-18-M